DEPARTMENT OF LABOR

Mine Safety and Health Administration

Petitions for Modification

The following parties have filed petitions to modify the application of existing safety standards under section 101(c) of the Federal Mine Safety and Health Act of 1977.

1. Mingo Logan Coal Company

[Docket No. M-2004-007-C]

Mingo Logan Coal Company, 1000 Mingo Logan Avenue, Wharncliffe, West Virginia 25651 has filed a petition to modify the application of 30 CFR 77.214(a) (Refuse piles; general) to its Black Bear Preparation Plant (MSHA I.D. No. 46-07985) located in Mingo County, West Virginia. The petitioner proposes to use coarse coal mine refuse material from the Black Bear Preparation Plant to cover and reclaim abandoned mine openings at the Select No. 5 Mine. The petitioner has listed specific procedures in this petition that would be followed when its proposed alternative method is implemented. The petitioner asserts that the proposed alternative method would provide at least the same measure of protection as the existing standard.

2. Remington, LLC

[Docket No. M-2004-008-C]

Remington, LLC, 160 Lockheed Drive, Beaver, West Virginia 25813 has filed a petition to modify the application of 30 CFR 75.1002 (Installation of electric equipment and conductors; permissibility) to its Stockburg No. 2 Mine (MSHA I.D. No. 46-08635) located in Kanawha County, West Virginia. The petitioner proposes to use a high-voltage 2,400-volt Joy 14CM27 continuous miner at the Stockburg No. 2 Mine. The petitioner asserts that the proposed alternative method would provide at least the same measure of protection as the existing standard.

3. Christy Minerals Company

[Docket No. M-2004-002-M]

Christy Minerals Company, P.O. Box 159, High Hill, Missouri 63350 has filed a petition to modify the application of 30 CFR 56.12028 (Testing grounding systems) to its Christy Minerals Plant (MSHA I.D. No. 46-08634) located in Montgomery County, Missouri. The petitioner proposes to conduct a visual inspection in lieu of an annual resistance test on all fixed outdoor installations where the equipment grounding conductor and other conduit are run above ground. The petitioner states that an annual resistance test, already in place at the plant, will be continued on any fixed installations subject to flexing, vibrations, and where the conduit is located below ground. The petitioner asserts that the proposed alternative method would provide at least the same measure of protection as the existing standard.

Request for Comments

Persons interested in these petitions are encouraged to submit comments via e-mail to comments@msha.gov, or on a computer disk along with an original hard copy to the Office of Standards, Regulations, and Variances, Mine Safety and Health Administration, 1100 Wilson Boulevard, Room 2350, Arlington, Virginia 22209. All comments must be postmarked or received in that office on or before April 12, 2004. Copies of these petitions are available for inspection at that address.

Dated at Arlington, Virginia, this 8th day of March, 2004.
Marvin W. Nichols, Jr.,
Director, Office of Standards, Regulations, and Variances.

[FR Doc. 04-5590 Filed 3-11-04; 8:45 am]

BILLING CODE 4510-43-P